MILLENNIUM CHALLENGE CORPORATION

[MCC FR 09-15]

Notice of the September 9, 2009 Millennium Challenge Corporation Board of Directors Meeting; Sunshine Act Meeting

AGENCY: Millennium Challenge Corporation.

Time and Date: 3 p.m. to 5 p.m., Wednesday, September 9, 2009.

Place: Department of State, 2201 C Street, NW., Washington, DC 20520.

FOR FURTHER INFORMATION CONTACT: Information on the meeting may be obtained from Romell Cummings via e-mail at Board@mcc.gov or by telephone at (202) 521-3600.

Status: Meeting will be closed to the public.

Matters to be Considered: The Board of Directors (the “Board”) of the Millennium Challenge Corporation (“MCC”) will hold a meeting to initiate the Fiscal Year 2010 country selection process by identifying countries that will be candidates for Millennium Challenge Account (“MCA”) assistance in Fiscal Year 2010 based on the per capita income and other requirements of 606(a) of the Millennium Challenge Act of 2003 (Pub. L. 108-199 (Division D)) (the “Act”) and to discuss other Compact development efforts with MCA-eligible countries; the MCC's Threshold Program; and consider certain administrative matters. The agenda items are expected to involve the consideration of classified information and the meeting will be closed to the public.

Dated: August 26, 2009.
Henry C. Pitney,
(Acting) Vice President and General Counsel, Millennium Challenge Corporation.

[FR Doc. E9-20944 Filed 8-26-09; 4:15 pm]

BILLING CODE 9211-03-P